DEPARTMENT OF COMMERCE

International Trade Administration

[A-122-855, A-570-024, A-533-861, A-523-810]

Certain Polyethylene Terephthalate Resin From Canada, the People's Republic of China, India, and the Sultanate of Oman: Postponement of Preliminary Determinations of Antidumping Duty Investigations

AGENCY: Enforcement and Compliance, International Trade Administration, Department of Commerce.

DATES: Effective date July 31, 2015.

FOR FURTHER INFORMATION CONTACT: Karine Gziryan at (202) 482-4081 (Canada); Tyler Weinhold or Steve Bezirganian at (202) 482-1121 and (202) 482-1131, respectively (the People's Republic of China (the PRC)); Fred Baker at (202) 482-2924 (India); or Jonathan Hill at (202) 482-3518 (the Sultanate of Oman (Oman)), AD/CVD Operations, Enforcement and Compliance, International Trade Administration, U.S. Department of Commerce, 14th Street and Constitution Avenue NW., Washington, DC 20230.

SUPPLEMENTARY INFORMATION:

Background

On March 30, 2015, the Department of Commerce (Department) initiated antidumping duty investigations on certain polyethylene terephthalate resin from Canada, the PRC, India, and Oman.¹ Section 733(b)(1)(A) of the Tariff Act of 1930, as amended (the Act), and 19 CFR 351.205(b)(1) state the Department will make a preliminary determination no later than 140 days after the date of the initiation. The current deadline for the preliminary determinations of these investigations is no later than August 17, 2015.

¹ See Certain Polyethylene Terephthalate Resin From Canada, the People's Republic of China, India, and the Sultanate of Oman: Initiation of Less-Than-Fair-Investigations, 80 FR 18376 (April 6, 2015).

Postponement of Preliminary Determination

On July 21, 2015, DAK Americas, LLC, M&G Chemicals, and Nan Ya Plastics Corporation, America (Petitioners) made a timely request, pursuant to 19 CFR 351.205(e), for postponement of the preliminary determinations, in order to give the Department the necessary time to further develop the record in this proceeding through additional questionnaires, which Petitioners will in turn need time to analyze and possibly comment on. Because there are no compelling reasons to deny Petitioners' request, in accordance with section 733(c)(1)(A) of the Act, the Department is postponing the deadline for the preliminary determinations by 50 days.

For the reasons stated above, the Department, in accordance with section 733(c)(1)(A) of the Act, is postponing the deadline for the preliminary determinations to no later than 190 days after the date on which the Department initiated these investigations. Therefore, the new deadline for the preliminary determinations is October 6, 2015. In accordance with section 735(a)(1) of the Act, the deadline for the final determinations of these investigations will continue to be 75 days after the date of the preliminary determinations, unless postponed at a later date.

This notice is issued and published pursuant to section 733(c)(2) of the Act and 19 CFR 351.205(f)(1).

Dated: July 24, 2015.
Paul Piquado,
Assistant Secretary for Enforcement and Compliance.

[FR Doc. 2015-18843 Filed 7-30-15; 8:45 am]

BILLING CODE 3510-DS-P